DEPARTMENT OF ENERGY

Office of Energy Efficiency and Renewable Energy

[Case No. CD-009]

Energy Conservation Program for Consumer Products: Decision and Order Granting a Waiver to Indesit Company from the Department of Energy Residential Clothes Dryer Test Procedure

AGENCY: Office of Energy Efficiency and Renewable Energy, Department of Energy.

ACTION: Decision and order.

SUMMARY: The U.S. Department of Energy (DOE) gives notice of the decision and order (Case No. CD-009) that grants to Indesit Company (Indesit) a waiver from the DOE clothes dryer test procedure. The waiver pertains to the models of condensing residential clothes dryer specified in Indesit's petition. Condensing clothes dryers cannot be tested using the currently applicable DOE test procedure. Under today's decision and order, Indesit shall not be required to test and rate its specified models of residential condensing clothes dryer pursuant to the current test procedure.

DATES: This Decision and Order is effective January 23, 2014.

FOR FURTHER INFORMATION CONTACT:

Mr. Bryan Berringer, U.S. Department of Energy, Building Technologies Office, Mail Stop EE-5B, Forrestal Building, 1000 Independence Avenue SW., Washington, DC 20585-0121. Telephone: (202) 586-0371. Email: Bryan.Berringer@ee.doe.gov.

Ms. Elizabeth Kohl, U.S. Department of Energy, Office of the General Counsel, Mail Stop GC-71, Forrestal Building, 1000 Independence Avenue SW., Washington, DC 20585-0103. Telephone: (202) 586-7796. Email: Elizabeth.Kohl@hq.doe.gov.

SUPPLEMENTARY INFORMATION: In accordance with Title 10 of the Code of Federal Regulations (10 CFR), Section 430.27(l), DOE gives notice of the issuance of its decision and order as set forth below. The decision and order grants Indesit a waiver from the applicable residential clothes dryer test procedure at 10 CFR part 430 subpart B, appendix D, for the three models of condensing clothes dryer specified it its petition.

DOE notes that it has promulgated a final test procedure for clothes dryers that provides a mechanism for testing condensing clothes dryers. (76 FR 972, Jan. 6, 2011). Use of this test procedure will be required on the compliance date of DOE's amended standards for clothes dryers, established by direct final rule in 2011. (76 FR 22454, April 21, 2011). The compliance date of these standards is January 1, 2015. (76 FR 26656, May 9, 2011).

Issued in Washington, DC, on January 16, 2014.

Kathleen B. Hogan,
Deputy Assistant Secretary for Energy Efficiency, Energy Efficiency and Renewable Energy.

Decision and Order

In the Matter of: Indesit Company (Case No. CD-009).

Background

Title III, Part B of the Energy Policy and Conservation Act of 1975 (EPCA), Pub. L. 94-163 (42 U.S.C. 6291-6309, as codified) established the Energy Conservation Program for Consumer Products Other Than Automobiles, a program covering most major household appliances, which includes the residential clothes washers that are the focus of this notice.¹ Part B includes definitions, test procedures, labeling provisions, energy conservation standards, and the authority to require information and reports from manufacturers. Further, Part B authorizes the Secretary of Energy to prescribe test procedures that are reasonably designed to produce results which measure energy efficiency, energy use, or estimated operating costs, and that are not unduly burdensome to conduct. (42 U.S.C. 6293(b)(3))

¹ For editorial reasons, upon codification in the U.S. Code, Part B was re-designated Part A.

DOE's regulations contain provisions allowing a person to seek a waiver from the test procedure requirements for covered consumer products if at least one of the following conditions is met: (1) the petitioner's basic model contains one or more design characteristics that prevent testing according to the prescribed test procedure, or (2) when the prescribed test procedures may evaluate the basic model in a manner so unrepresentative of its true energy consumption characteristics as to provide materially inaccurate comparative data. (10 CFR 430.27(a)(1)) Petitioners must include in their petition any alternate test procedures known to the petitioner to evaluate the basic model in a manner representative of its energy consumption characteristics.

The Assistant Secretary for Energy Efficiency and Renewable Energy (the Assistant Secretary) may grant a waiver subject to conditions, including adherence to alternate test procedures. (10 CFR 430.27(l)) Waivers remain in effect pursuant to the provisions of 10 CFR 430.27(m).

On October 22, 2013, Indesit filed a petition for waiver and an application for interim waiver from the test procedure applicable to residential clothes dryers set forth in 10 CFR Part 430, subpart B, appendix D. Indesit seeks a waiver from the applicable test procedure for its Ariston TCL73XNA and TCL73XSNA condensing clothes dryers because, Indesit asserts, design characteristics of these models prevent testing in accordance with the currently prescribed test procedure, as described in greater detail in the following paragraph.

In support of its petition, Indesit claims that the current clothes dryer test procedure applies only to vented clothes dryers because the test procedure requires the use of an exhaust restrictor on the exhaust port of the clothes dryer during testing. Because condensing clothes dryers operate by blowing air through the wet clothes, condensing the water vapor in the airstream, and pumping the collected water into either a drain line or an in-unit container, these products do not use an exhaust port like a vented dryer does. Indesit plans to market its condensing clothes dryers for situations in which a conventional vented clothes dryer cannot be used, such as high-rise apartments and other buildings where exhaust venting is not practical or is cost prohibitive.

The Indesit petition requests that DOE grant a waiver from the existing test procedure to allow for the sale of two models (TCL73XNA and TCL73XSNA) until DOE prescribes final test procedures and minimum energy conservation standards appropriate to condensing clothes dryers. Similar to the other manufacturers of condensing clothes dryers, Indesit did not include an alternate test procedure in its petition.

Assertions and Determinations

Indesit's Petition for Waiver

On October 22, 2013, Indesit filed a petition for waiver from the test procedure applicable to residential clothes dryers set forth in 10 CFR part 430, subpart B, appendix D for particular models of condensing clothes dryer. On November 13, 2013, DOE published in the Federal Register a petition for waiver from Indesit for its condensing clothes dryer and granted Indesit an interim waiver from the test procedure. DOE received no comments on the petition. DOE granted similar waivers for the same type of clothes dryer to Bosch (BSH) (76 FR 33271, June 8, 2011), Miele Appliance, Inc. (Miele) (60 FR 9330, February 17, 1995; 76 FR 17637, March 30, 2011), LG Electronics (73 FR 66641, November 10, 2008), Whirlpool Corporation (74 FR 66334, December 15, 2009), General Electric (75 FR 13122, March 18, 2010), and ASKO Appliances, Inc. (ASKO) (78 FR 53446, August 29, 2013). Indesit claims that its condensing clothes dryers cannot be tested pursuant to the DOE procedure and requests that the same waiver granted to other manufacturers be granted for Indesit's Ariston TCL73XNA and TCL73XSNA models.

Therefore, for the reasons discussed above, and in light of the previous waivers to other manufacturers, DOE grants Indesit's petition for waiver from testing of its Ariston TCL73XNA and TCL73XSNA condenser clothes dryers.

Consultations With Other Agencies

DOE consulted with the Federal Trade Commission (FTC) staff concerning the Indesit petition for waiver. The FTC staff did not have any objections to granting a waiver to Indesit.

Conclusion

After careful consideration of all the material that was submitted by Indesit and consultation with the FTC staff, it is ordered that:

(1) The petition for waiver submitted by Indesit Company (Case No. CD-009) is hereby granted as set forth in the paragraphs below.

(2) Indesit shall not be required to test or rate its Ariston TCL73XNA and TCL73XSNA condensing clothes dryer models on the basis of the test procedures at 10 CFR part 430, subpart B, appendix D.

(3) This waiver shall remain in effect from the date this decision and order consistent with the provisions of 10 CFR 430.27(m).

(4) This waiver is issued on the condition that the statements, representations, and documentary materials provided by the petitioner are valid. DOE may revoke or modify this waiver at any time if it determines the factual basis underlying the petition for waiver is incorrect.

(5) This waiver applies to only those models specifically set out in Indesit's petition. Indesit may submit a new or amended petition for waiver and request for grant of interim waiver, as appropriate, for additional models of clothes dryers for which it seeks a waiver from the DOE test procedure. Grant of this petition for waiver also does not release a petitioner from any applicable certification requirements set forth at 10 CFR Part 429.

Issued in Washington, DC, on January 16, 2014.

Kathleen B. Hogan

Deputy Assistant Secretary for Energy Efficiency Energy Efficiency and Renewable Energy

[FR Doc. 2014-01292 Filed 1-22-14; 8:45 am]

BILLING CODE 6450-01-P